DEPARTMENT OF TRANSPORTATION

Federal Aviation Administration

14 CFR Part 39

[Docket No. FAA-2016-6628; Directorate Identifier 2016-CE-013-AD; Amendment 39-18514; AD 2016-10-03]

RIN 2120-AA64

Airworthiness Directives; Viking Air Limited Airplanes

AGENCY: Federal Aviation Administration (FAA), DOT.

ACTION: Final rule; correction.

SUMMARY: The FAA is correcting an airworthiness directive (AD) that published in the Federal Register. That AD applies to Viking Air Limited Model DHC-3 airplanes that are modified with the Baron Short Take Off and Landing (STOL) kit (Supplemental Type Certificate SA94-114 or SA 00287NY). The Code of Federal Regulations reference for records maintenance cited in last sentence in paragraph (f) is incorrect. This document corrects that error. In all other respects, the original document remains the same; however we are publishing the entire rule in the Federal Register.

DATES: This final rule is effective May 31, 2016.

ADDRESSES: You may examine the AD docket on the Internet at http://www.regulations.gov by searching for and locating Docket No. FAA-2016-6628; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Aziz Ahmed, Aerospace Engineer, FAA, New York Aircraft Certification Office (ACO), 1600 Stewart Avenue, Suite 410, Westbury, New York 11590; telephone: (516) 287-7329; fax: (516) 794-5531; email: aziz.ahmed@faa.gov.

SUPPLEMENTARY INFORMATION: Airworthiness Directive 2016-10-03, Amendment 39-18514 (81 FR 29125, May 11, 2016), requires removing whichever previous revision of the Otter Baron short take-off and landing (STOL) kit installation flight manual supplement (FMS) that is currently being used and incorporate Stolairus Aviation Inc. Flight Manual Supplement #4 for de Havilland DHC-3 Otter with the Baron STOL Kit Installation, Revision 3, dated May 22, 2015, for Viking Air Limited Model DHC-3 airplanes that are modified with the Baron Short Take Off and Landing (STOL) kit (Supplemental Type Certificate SA94-114 or SA 00287NY).

As published, the Code of Federal Regulations (CFR) reference for records maintenance cited in the last sentence in paragraph (f) is incorrect. The published reference is 14 CFR 91.173 or 135.439, and it is should be 14 CFR 91.417, 121.380, or 135.439.

Although no other part of the preamble or regulatory information has been corrected, we are publishing the entire rule in the Federal Register.

The effective date of this AD remains May 31, 2016.

PART 39—AIRWORTHINESS DIRECTIVES

1. The authority citation for part 39 continues to read as follows:

Authority: 49 U.S.C. 106(g), 40113, 44701.

§ 39.13 [Amended]

2. The FAA amends § 39.13 by adding the following new AD:

2016-10-03 Viking Air Limited: Amendment 39-18514; Docket No. FAA-2016-6628; Directorate Identifier 2016-CE-013-AD.

(a) Effective Date

This airworthiness directive (AD) becomes effective May 31, 2016.

(b) Affected ADs

None.

(c) Applicability

This AD applies to Viking Air Limited Model DHC-3 airplanes, all serial numbers, that are:

(1) Modified with the Baron Short Take Off and Landing (STOL) kit (Supplemental Type Certificate SA94-114 or SA 00287NY); and

(2) certificated in any category.

(d) Subject

Air Transport Association of America (ATA) Code 8: Leveling and Weighing.

(e) Reason

This AD was prompted by mandatory continuing airworthiness information (MCAI) originated by an aviation authority of another country to identify and correct an unsafe condition on an aviation product. The MCAI describes the unsafe condition as an accident report that indicated that the center of gravity was too far aft and contributed to a stall during takeoff. We are issuing this AD to correct the center of gravity and prevent such a stall during takeoff and loss of control during other phases of flight.

(f) Actions and Compliance

Unless already done, within 30 days after May 31, 2016 (the effective date of this AD), remove whichever previous revision of the Otter Baron short take-off and landing (STOL) kit installation flight manual supplement (FMS) that is currently being used and incorporate Stolairus Aviation Inc. Flight Manual Supplement #4 for de Havilland DHC-3 Otter with the Baron STOL Kit Installation, Revision 3, dated May 22, 2015. This action may be performed by the owner/operator (pilot) holding at least a private pilot certificate and must be entered into the aircraft records showing compliance with this AD in accordance with 14 CFR 43.9(a)(1)-(4) and 14 CFR 91.417(a)(2)(v). The record must be maintained as required by 14 CFR 91.417, 121.380, or 135.439.

(g) Other FAA AD Provisions

The following provisions also apply to this AD:

(1) Alternative Methods of Compliance (AMOCs): The Manager, Standards Office, FAA, has the authority to approve AMOCs for this AD, if requested using the procedures found in 14 CFR 39.19. Send information to ATTN: Aziz Ahmed, Aerospace Engineer, FAA, New York Aircraft Certification Office (ACO), 1600 Stewart Avenue, Suite 410, Westbury, New York 11590; telephone: (516) 287-7329; fax: (516) 794-5531; email: aziz.ahmed@faa.gov. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(h) Related Information

Refer to MCAI Transport Canada AD CF-2016-05, dated January 25, 2016, for related information. You may examine the MCAI on the Internet at http://www.regulations.gov by searching for and locating Docket No. FAA-2016-6628.

(i) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Stolairus Aviation Inc., Flight Manual Supplement #4, de Havilland DHC-3 Otter, Baron STOL Kit Installation, DOT STC # SA 94-114/FAA STC # SA 00287 NY, Revision 3, dated May 22, 2015.

(ii) Reserved.

(3) For Stolairus Aviation Inc. service information identified in this AD, contact Stolairus Aviation Inc. (formerly known as AOG Air Support, Inc.), 6095 Airport Way, Kelowna, British Columbia V1V 1S1; phone: (250) 491-7511; fax: (25) 491-7522; Internet: http://www.stolairus.com.

(4) You may view this service information at the FAA, Small Airplane Directorate, 901 Locust, Kansas City, Missouri 64106. For information on the availability of this material at the FAA, call (816) 329-4148. It is also available on the Internet at http://www.regulations.gov by searching for locating Docket No. FAA-2016-6628.

(5) You may view this service information that is incorporated by reference at the National Archives and Records Administration (NARA). For information on the availability of this material at NARA, call 202-741-6030, or go to: http://www.archives.gov/federal-register/cfr/ibr-locations.html.

Issued in Kansas City, Missouri, on May 20, 2016.
Pat Mullen,
Acting Manager, Small Airplane Directorate, Aircraft Certification Service.

[FR Doc. 2016-12468 Filed 5-26-16; 8:45 am]

BILLING CODE 4910-13-P